DEPARTMENT OF ENERGY

Federal Energy Regulatory Commission

Combined Notice of Filings #2

Take notice that the Commission received the following electric rate filings:

Docket Numbers: ER10-2819-008; ER14-413-006; ER10-3147-007; ER21-2652-007; ER10-3131-007; ER20-1970-003; ER22-2500-002; ER22-2501-002; ER22-2502-002; ER19-1778-004; ER14-1390-007; ER19-1639-004; ER10-2358-009; ER14-1397-007.

Applicants: Storm Lake Power Partners II, LLC, Storm Lake Power Partners I LLC, South Peak Wind LLC, Lake Benton Power Partners LLC, Glen Ullin Energy Center, LLC, DLS—Sylvan Project Co, LLC, DLS—Laskin Project Co, LLC, DLS—Jean Duluth Project Co, LLC, Diamond Spring, LLC, Condon Wind Power, LLC, Caddo Wind, LLC, AES Armenia Mountain Wind, LLC, ALLETE Clean Energy, Inc., ALLETE, Inc.

Description: Notice of Change in Status of ALLETE, Inc., et al.

Filed Date: 2/2/26.

Accession Number: 20260202-5291.

Comment Date: 5 p.m. ET 2/23/26.

Docket Numbers: ER17-2558-003.

Applicants: Ohio Power Partners, LLC.

Description: Notice of Change in Status of Ohio Power Partners, LLC.

Filed Date: 2/2/26.

Accession Number: 20260202-5287.

Comment Date: 5 p.m. ET 2/23/26.

Docket Numbers: ER19-158-021; ER24-3048-004; ER15-1456-013; ER21-2346-003; ER21-2347-003; ER10-2674-019; ER24-3047-004; ER11-2449-008; ER15-1598-013; ER15-1599-026; ER14-1569-026; ER25-12-004; ER10-2616-033; ER10-2586-006; ER11-4400-030; ER20-1436-008; ER20-1438-008; ER19-2807-018; ER10-2421-018; ER12-1769-020; ER19-967-006; ER15-1600-012; ER15-748-010; ER20-464-005; ER15-1602-012; ER11-4634-013; ER10-1547-019; ER14-883-023; ER14-922-012; ER14-924-012; ER10-2619-017; ER13-2475-018; ER17-1906-006; ER12-192-021; ER15-1596-025; ER19-102-018; ER19-968-007; ER11-2457-018; ER10-2767-003; ER15-1605-012; ER10-1518-002; ER20-2414-008; ER20-2415-008; ER22-2736-004; ER10-2590-013; ER10-2617-016; ER10-2677-020; ER12-2251-019; ER12-2253-019; ER12-75-021; ER10-1975-035; ER10-2613-012; ER15-1457-013; ER14-2245-020; ER19-2809-017; ER22-2728-001; ER19-2810-017; ER19-2811-017; ER25-202-004; ER15-1607-012; ER10-2593-013.

Applicants: Oakland Power Company LLC, Washington Power Generation LLC, Vision Trading Company LLC, Viridian Energy, LLC, Viridian Energy PA, LLC, Viridian Energy NY, LLC, Viridian Energy Ohio LLC, TriEagle Energy, LP, Syracuse, L.L.C., Sithe/Independence Power Partners, L.P., Sayreville Power Generation LP, Public Power, LLC, Public Power & Utility of Maryland, LLC, Public Power & Utility of NY, Inc, Pleasants Energy, LLC, Ontelaunee Power Operating Company LLC, Moss Landing Power Company LLC, Moss Landing Energy Storage 3, LLC, Moss Landing Energy Storage 2, LLC, Moss Landing Energy Storage 1, LLC, Milford Power Company, LLC, Miami Fort Power Company LLC, MASSPOWER, Massachusetts Gas & Electric, Inc., Manchester Street, L.L.C., Luminant Energy Company LLC, Luminant Commercial Asset Management LLC, Liberty Electric Power, LLC, Lake Road Generating Company, LLC, Kincaid Generation, L.L.C., Kendall Power Company LLC, Illinois Power Resources Generating, LLC, Illinois Power Generating Company, Illinois Power Marketing Company, Hopewell Power Generation, LLC, Hazleton Generation LLC, Hanging Rock Power Company LLC, Greenleaf Energy Unit 2 LLC, Garrison Energy Center LLC, Fayette Power Company LLC, Fairless Energy, L.L.C., Everyday Energy, LLC, Energy Services Providers, LLC, Energy Rewards, LLC, Energy Harbor Nuclear Generation LLC, Energy Harbor LLC, Dynegy Power Marketing, LLC, Dynegy Midwest Generation, LLC, Dynegy Marketing and Trade, LLC, Dynegy Energy Services Mid-Atlantic, LLC, Dynegy Energy Services, LLC, Dynegy Energy Services (East), LLC, Dicks Creek Power Company LLC, Connecticut Gas & Electric, Inc., Coffeen Solar BESS LLC, Calumet Energy Team, LLC, Calumet Energy Team, LLC, Bellingham Power Generation LLC, Beaver Falls, L.L.C., Baldwin Solar BESS LLC, Ambit Northeast, LLC.

Description: Notice of Non-Material Change in Status of Ambit Northeast, LLC, et al.

Filed Date: 2/2/26.

Accession Number: 20260202-5289.

Comment Date: 5 p.m. ET 2/23/26.

Docket Numbers: ER20-59-010; ER15-1471-017; ER10-1946-020; ER15-632-018; ER16-915-011; ER15-634-018; ER10-2721-020; ER13-291-012; ER15-1672-016; ER20-422-007; ER20-58-007; ER10-2861-016; ER20-57-007; ER19-2287-009; ER16-2520-009; ER16-612-005; ER10-2756-016; ER16-2010-011; ER14-2939-016; ER14-1468-017; ER10-1874-020; ER19-9-014; ER15-2728-018; ER10-2201-013; ER19-2294-009; ER18-97-007; ER14-2140-017; ER12-1308-019; ER15-1952-017; ER16-711-015; ER14-2466-019; ER14-2465-019; ER14-2141-017; ER16-2561-010; ER19-8-009; ER13-1504-017; ER17-318-009; ER20-339-007; ER19-2305-009.

Applicants: Valencia Power, LLC, Twiggs County Solar, LLC, Three Peaks Power, LLC, SWG Arapahoe, LLC, Sweetwater Solar, LLC, Sunflower Wind Project, LLC, Selmer Farm, LLC, RE Columbia Two LLC, RE Camelot LLC, Pio Pico Energy Center, LLC, Pavant Solar LLC, Palouse Wind, LLC, Mulberry Farm, LLC, MS Solar 3, LLC, Mesquite Power, LLC, Marina Energy, LLC, Maricopa West Solar PV, LLC, Mankato Energy Center II, LLC, Mankato Energy Center, LLC, KMC Thermo, LLC, Imperial Valley Solar Company (IVSC) 2, LLC, Hancock Wind, LLC, Griffith Energy LLC, Greeley Energy Facility, LLC, Grand View PV Solar Two LLC, Goal Line L.P., GA Solar 3, LLC, Fountain Valley Power, L.L.C., FL Solar 4, LLC, FL Solar 1, LLC, Evergreen Wind Power II, LLC, EnergyMark, LLC, El Paso Electric Company, Cottonwood Solar, LLC, Comanche Solar PV, LLC, CID Solar, LLC, Broad River Energy LLC, Blue Sky West, LLC, AZ Solar 1, LLC.

Description: Notice of Non-Material Change in Status of AZ Solar 1, LLC, et al.

Filed Date: 2/2/26.

Accession Number: 20260202-5285.

Comment Date: 5 p.m. ET 2/23/26.

Docket Numbers: ER25-500-002.

Applicants: Scatter Wash Energy Storage LLC.

Description: Notice of Change in Status of Scatter Wash Energy Storage LLC.

Filed Date: 2/2/26.

Accession Number: 20260202-5288.

Comment Date: 5 p.m. ET 2/23/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 17, 2026.
Carlos D. Clay,
Deputy Secretary.

[FR Doc. 2026-03398 Filed 2-19-26; 8:45 am]

BILLING CODE 6717-01-P